DEPARTMENT OF ENERGY

Orders Granting Authority To Import and Export Natural Gas, To Export Liquefied Natural Gas, To Export Compressed Natural Gas, Vacating Prior Authority and Denying Request for Rehearing During January 2013

| FE Docket Nos.
SABINE PASS LIQUEFACTION, LLC | 10-111-LNG
TENASKA WASHINGTON PARTNERS, L.P. | 11-160-NG
CHEVRON U.S.A. INC. | 12-113-LNG
MAIN PASS ENERGY HUB, LLC | 12-114-LNG
IRVING OIL COMMERCIAL GP | 12-164-NG
XPRESS NATURAL GAS LLC | 12-168-CNG
MERRILL LYNCH COMMODITIES CANADA, ULC | 12-169-NG
GAS NATURAL PUERTO RICO INC. | 12-170-LNG
ENN CANADA CORPORATION | 12-172-LNG
SELKIRK COGEN PARTNERS L.P. | 12-173-NG
PANGEA LNG (NORTH AMERICA) HOLDINGS, LLC | 12-174-LNG
VITOL INC. | 12-176-NG
EXELON GENERATION COMPANY, LLC | 12-181-NG
HUSKY MARKETING AND SUPPLY COMPANY | 12-182-NG
DOMINION COVE POINT LNG, LP | 12-187-LNG
DYNEGY MARKETING AND TRADE, LLC | 13-02-NG
PROGAS USA INC. | 13-03-NG

AGENCY: Office of Fossil Energy, Department of Energy (DOE).

ACTION: Notice of orders.

SUMMARY: The Office of Fossil Energy (FE) of the Department of Energy gives notice that during January 2013, it issued orders granting authority to import and export natural gas and liquefied natural gas and vacating prior authority. These orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8:00 a.m. and 4:30 p.m., Monday through Friday, except Federal holidays.

Issued in Washington, DC, on March 25, 2013.
John A. Anderson,
Manager, Natural Gas Regulatory Activities, Office of Oil and Gas Global Security and Supply, Office of Fossil Energy.

Appendix—DOE/FE Orders Granting Import/Export Authorizations

Order No. | Date issued | FE Docket No. | Authorization holder | Description of action.
3213 | 01/02/13 | 12-164-NG | Irving Oil Commercial GP | Order granting blanket authority to export natural gas to Canada.
3214 | 01/02/13 | 12-169-NG | Merrill Lynch Commodities Canada, ULC | Order granting blanket authority to export natural gas to Canada.
3215 | 01/02/13 | 12-170-LNG | Gas Natural Puerto Rico Inc. | Order granting blanket authority to import LNG from various international sources by vessel.
3216 | 01/02/13 | 12-172-LNG | ENN Canada Corporation | Order granting blanket authority to export natural gas to Canada by truck.
3217 | 01/02/13 | 12-173-NG | Selkirk Cogen Partners L.P. | Order granting blanket authority to import/export natural gas from/to Canada.
3218 | 01/02/13 | 12-181-NG | Exelon Generation Company, LLC | Order granting blanket authority to import and export natural gas from and to Canada.
3219 | 01/02/13 | 12-182-NG | Husky Marketing and Supply Company | Order granting blanket authority to import and export natural gas from and to Canada.
3220 | 01/04/13 | 12-114-LNG | Main Pass Energy Hub, LLC | Order granting long-term multi-contract authority to export LNG by vessel from the MPEH Deepwater Port to Free Trade Agreement nations.
3221 | 01/04/13 | 12-113-LNG | Chevron U.S.A. Inc. | Order granting blanket authority to export previously imported LNG by vessel.
3222 | 01/08/13 | 12-168-CNG | Xpress Natural Gas LLC | Order granting long-term multi-contract authority to export compressed natural gas by truck to Canada.
3054-A | 01/09/13 | 11-160-NG | Tenaska Washington Partners, L.P. | Order vacating blanket authority to import natural gas from Canada.
3223 | 01/18/13 | 12-187-NG | Dominion Cove Point LNG, LP | Order granting blanket authority to import LNG from various international sources by vessel.
3224 | 01/18/13 | 13-02-NG | Dynegy Marketing and Trade, LLC | Order granting blanket authority to import/export natural gas from/to Canada.
3225 | 01/18/13 | 13-03-NG | ProGas USA Inc. | Order granting blanket authority to import/export natural gas from/to Canada.
3226 | 01/18/13 | 12-176-NG | Vitol Inc. | Order granting blanket authority to import/export natural gas from/to Canada, to import LNG from various international sources by vessel, and to export LNG to Canada by vessel and truck.
2961-B | 01/30/13 | 10-111-LNG | Sabine Pass Liquefaction, LLC | Opinion and Order denying request for rehearing of Order denying motion for late intervention, dismissing request for rehearing of Order 2961-A, and dismissing motion for a stay pendent lite.
3227 | 01/30/13 | 12-174-LNG | Pangea LNG (North America) Holdings, LLC | Order granting long-term multi-contract authority to export LNG by vessel from the proposed South Texas LNG Terminal to Free Trade Agreement nations.

[FR Doc. 2013-08354 Filed 4-9-13; 8:45 am]

BILLING CODE 6450-01-P